DEPARTMENT OF AGRICULTURE

Forest Service

Proposed New Recreation Fee Sites

AGENCY: Forest Service, Agriculture (USDA).

ACTION: Notice.

SUMMARY: The Salmon-Challis National Forest is proposing to establish several new recreation fee sites. Recreation fee revenues collected at the new recreation fee sites would be used for operation, maintenance, and improvement of the sites. An analysis of nearby recreation fee sites with similar amenities shows the recreation fees that would be charged at the new recreation fee sites are reasonable and typical of similar recreation fee sites in the area.

DATES: If approved, the new recreation fees would be implemented no earlier than six months following the publication of this notice in the Federal Register.

ADDRESSES: Salmon-Challis National Forest. 1206 S Challis St., Salmon, ID 83467.

FOR FURTHER INFORMATION CONTACT: James Townley, Recreation Management Specialist, at 208-756-5100 or james.townley@usda.gov.

SUPPLEMENTARY INFORMATION: The Federal Lands Recreation Enhancement Act (16 U.S.C. 6803(b)) requires the Forest Service to publish a six-month advance notice in the Federal Register of establishment of new recreation fee sites. In accordance with Forest Service Handbook 2309.13, chapter 30, the Forest Service will publish the proposed new recreation fee sites in local newspapers and other local publications for public comment. Most of the new recreation fee revenues would be spent where they are collected to enhance the visitor experience at the new recreation fee sites.

An expanded amenity recreation fee of $10 per night would be charged for Big Creek, Broad Canyon, Little Bayhorse, Morse Creek, Pass Creek Narrows, Big Bayhorse, Cougar Point, and Tin Cup Campgrounds. An expanded amenity recreation fee of $30 per night would be charged for double campsites at Meadow Lake Campground. An expanded amenity recreation fee of $15 per night would be charged for Mosquito Flat Reservoir and Yellowjacket Lake Campgrounds. In addition, an expanded amenity recreation fee of $65 per night would be charged for rental of Basin Butte Lookout, and an expanded amenity recreation fee of $50 per night would be charged for rental of Bonanza Guard Station.

Expenditures from recreation fee revenues collected at the new recreation fee sites would enhance recreation opportunities, improve customer service, and address maintenance needs. Once public involvement is complete, these new recreation fees will be reviewed by a Resource Advisory Committee prior to a final decision and implementation. Reservations for Basin Butte Lookout and Bonanza Guard Station could be made online at www.recreation.gov or by calling 877-444-6777. Reservations would cost $8.00 per reservation.

Dated: December 8, 2023.
Jacqueline Emanuel,
Associate Deputy Chief, National Forest System.

[FR Doc. 2023-27511 Filed 12-14-23; 8:45 am]

BILLING CODE 3411-15-P